DEPARTMENT OF HEALTH AND HUMAN SERVICES

Agency for Toxic Substances and Disease Registry

[30Day-17-17IV]

Agency Forms Undergoing Paperwork Reduction Act Review

The Agency for Toxic Substances and Disease Registry (ATSDR) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Direct written comments and/or suggestions regarding the items contained in this notice to the Attention: CDC Desk Officer, Office of Management and Budget, Washington, DC 20503 or by fax to (202) 395-5806. Written comments should be received within 30 days of this notice.

Proposed Project

APPLETREE Performance Measures—New—Agency for Toxic Substances and Disease Registry (ATSDR)

Background and Brief Description

The Agency for Toxic Substances and Disease Registry (ATSDR) serves the public through responsive public health actions to promote healthy and safe environments and to prevent harmful exposures in communities across the nation. ATSDR's Partnership to Promote Local Efforts to Reduce Environmental Exposure (APPLETREE) Program is critical to ATSDR's success in this mission. The purpose of the program is to: (1) Identify pathways of exposure to hazardous substances at hazardous waste sites and releases; (2) identify, implement, and coordinate public health interventions to reduce exposures to hazardous substances which occur at levels of health concern; and (3) provide training at the state level to promote and achieve the safe siting of child care facilities in the United States. The APPLETREE Program is also a mechanism which enhances ATSDR's communication with state, local, and federal health and environmental agencies. This program is authorized under sections 104(i)(15) of the Comprehensive Environmental Response, Compensation, and Liability Act (CERCLA) of 1980, as amended by the Superfund Amendments and Reauthorization Act (SARA) of 1986 [42 U.S.C. 9604(i)(15)].

Under the new three-year APPLETREE cooperative agreement (Funding Opportunity Announcement No. CDC-RFA-TS17-1701), eligible applicants include federally recognized American Indian/Alaska Native tribal governments; American Indian/Alaska native tribally designated organizations; political subdivisions of states (in consultation with states); and state and local governments or their bona fide agents. ATSDR technical project officers (TPOs) will assist approximately 25 APPLETREE awardees to address site-specific issues involving human exposure to hazardous substances. Key capacities include identification of human exposure pathways at ATSDR sites, education of affected communities and local health professionals about site contamination and potential health effects; making appropriate recommendations to prevent exposure; reviewing health outcome data to evaluate potential links between site contaminants and community health; and documenting the effects of environmental remediation on health.

ATSDR will collect information related to awardee activities, and the process and outcome performance measures outlined by the cooperative agreement program. Information will be used to monitor progress toward program goals and objectives, and for program quality improvement.

ATSDR Health Education Activity Tracking (HEAT) Form: For each environmental health assessment and health education activity conducted at ATSDR sites, APPLETREE awardees must quantitatively assess and report efforts to educate community members about site recommendations and health risks using indicators to assess community understanding of site findings about health risks and community understanding of agency recommendations to reduce health risks. This information will be entered in the ATSDR HEAT system for each activity at ATSDR sites. Based on past experience, ATSDR assumes a maximum of 925 activities will be entered into the HEAT database each year; therefore, each of the 25 awardees will enter an average of 37 activities into the HEAT database.

ATSDR Technical Assistance (TA) Activity Form: Throughout the budget year, this form is used to record the routine requests made of the awardees and their program responses. These responses do not evaluate environmental data and do not make health calls. They are not reviewed and cleared through ATSDR clearance processes but are monitored by ATSDR as part of the awardees' performance. ATSDR anticipates each awardee will report an average of 15 TA requests per year.

ATSDR Site Impact Assessment (SIA) Form: For each environmental health assessment and health education activity conducted at ATSDR sites, awardees must estimate and report the number of people protected from exposure to toxic substances at each site where implementation of agency recommendations has taken place and at each child care center where safe siting guidelines have been implemented. To the extent possible, awardees must estimate the disease burden prevented due to the implementation of site recommendations and safe siting guidelines. This information will be entered into the ATSDR SIA database by the awardee. ATSDR assumes a maximum of 150 ATSDR sites will undergo an environmental assessment, or an average of six sites per awardee, per year.

APPLETREE Annual Performance Report (APR): At the end of each budget year, awardees must provide an APR, including an updated Annual Plan of Work (APOW) for the next budget year. The report must include a synopsis of the number of people involved in environmental health assessments at sites, the number of public health recommendations accepted, the number of health education activities conducted at sites; and the outcomes achieved during the budget year. The APR must also demonstrate annual progress in implementing child care safe siting policies in their jurisdictions over the three-year program period. ATSDR assumes that APRs will take three burden hours for each awardee to prepare.

ATSDR Success Story Form: By the end of the budget year, each awardee must also submit a minimum of three success stories to highlight the programs' annual accomplishments. ATSDR estimates that awardees will submit an average of four success stories which will take one hour each to prepare.

ATSDR seeks a three-year information collection clearance. Awardee reporting is a mandatory requirement of the APPLETREE cooperative agreement. The total annual time burden requested is 272 hours.

Estimated Annualized Burden Hours
Type of respondents | Form name | Number of respondents | Number of responses per respondent | Average burden per response (in hours)
APPLETREE Awardees | ATSDR Health Education Activity Tracking (HEAT) Form | 25 | 37 | 3/60
| Technical Assistance (TA) Activity Form | 25 | 15 | 5/60
| ATSDR Site Impact Assessment (SIA) Form | 25 | 6 | 7/60
| APPLETREE Annual Performance Report (APR) | 25 | 1 | 3
| Success Story Form | 25 | 4 | 1

Leroy A. Richardson,
Chief, Information Collection Review Office, Office of Scientific Integrity, Office of the Associate Director for Science, Office of the Director, Centers for Disease Control and Prevention.

[FR Doc. 2017-07483 Filed 4-12-17; 8:45 am]

BILLING CODE 4163-70-P